DEPARTMENT OF COMMERCE

National Institute of Standards and Technology

National Construction Safety Team Advisory Committee Meeting

AGENCY: National Institute of Standards and Technology, United States Department of Commerce.

ACTION: Notice of public meeting.

SUMMARY: The Director of the National Institute of Standards and Technology announces that the National Construction Safety Team Federal Advisory Committee will meet on August 26-27, 2003.

DATES: The meeting will convene August 26, 2003, at 10 a.m. and will adjourn at 2 p.m. on August 27, 2003. Members of the public wishing to attend the meeting must notify Stephen Cauffman by c.o.b. Friday, August 22, 2003, per instructions under the SUPPLEMENTARY INFORMATION section of this notice.

ADDRESSES: The meeting will be held in the Employees Lounge, Administration Building, at NIST, Gaithersburg, Maryland. Please note admittance instructions under SUPPLEMENTARY INFORMATION section of this notice.

FOR FURTHER INFORMATION CONTACT: Stephen Cauffman, National Construction Safety Team Advisory Committee, National Institute of Standards and Technology, 100 Bureau Drive, MS 8611, Gaithersburg, Maryland 20899-8611, telephone number (301) 975-6051, fax (301) 975-6122, or via e-mail at stephen.cauffman@nist.gov.

SUPPLEMENTARY INFORMATION: In accordance with the requirements of the Federal Advisory Committee Act, 5 U.S.C. app. 2, notice is hereby given that the National Construction Safety Team (NCST) Advisory Committee (Committee), National Institute of Standards and Technology (NIST), will meet Tuesday, August 26, 2003, from 10 a.m. to 5 p.m. and Wednesday, August 27, 2003, from 9 a.m. to 2 p.m. at NIST headquarters in Gaithersburg, Maryland.

The Committee was established pursuant to Section 11 of the National Construction Safety Team Act (15 U.S.C. 7310). The Committee is composed of ten members appointed by the Director of NIST who were selected for their technical expertise and experience, established records of distinguished professional service, and their knowledge of issues affecting teams established under the NCST Act. The Committee will advise the Director of NIST on carrying out investigations of building failures conducted under the authorities of the NCST Act that became law in October 2002 and will review the procedures developed to implement the NCST Act and reports issued under section 8 of the NCST Act.

The purpose of this meeting is to discuss the implementation of the NCST Act. The agenda will include briefings and discussions on implementation of the Act, criteria for launching an investigation, the process for the selection of outside experts, and the two investigations that NIST is currently conducting under the Act. In addition, there will be a planning session on the preparation of the NCST Advisory Committee Annual Report. The agenda may change to accommodate Committee business. The final agenda will be posted on the Web site (http://www.nist.gov/ncst).

Individuals and representatives of organizations who would like to offer comments and suggestions related to the Committee's affairs, NCST Act implementation, the WTC Investigation, and the Rhode Island Nightclub Investigation are invited to request a place on the agenda. Approximately one hour will be reserved for public comments, and speaking times will be assigned on a first-come, first-served basis. The amount of time per speaker will be determined by the number of requests received, but is likely to be 5 minutes each. Speakers who wish to expand upon their oral statements, those who had wished to speak but could not be accommodated on the agenda, and those who were unable to attend in person are invited to submit written statements to the NCST Advisory Committee. Written comments may be submitted via e-mail to ncstac@nist.gov. Questions from the public will not be considered during this period.

All visitors to the National Institute of Standards and Technology site will have to pre-register to be admitted. Anyone wishing to attend this meeting must register by c.o.b. Friday, August 22, 2003, in order to attend. Please submit your name, time of arrival, e-mail address and phone number to Stephen Cauffman and he will provide you with instructions for admittance. Non-U.S. citizens must also submit their country of citizenship, title, employer/sponsor, and address. Mr. Cauffman's e-mail address is stephen.cauffman@nist.gov and his phone number is (301) 975-6051.

Dated: August 7, 2003.
Arden L. Bement, Jr.,
Director.

[FR Doc. 03-20575 Filed 8-11-03; 8:45 am]

BILLING CODE 3510-13-P